FEDERAL COMMUNICATIONS COMMISSION

47 CFR Part 73

[DA 03-1076; MM Docket No. 01-62, RM-10053, RM-10109, RM-10110, RM-10111, RM-10112, RM-10113, RM-10114, RM-10116]

Radio Broadcasting Services; Ardmore, AL, New Hope, AL, Pulaski, TN and Scottsboro, AL

AGENCY: Federal Communications Commission.

ACTION: Final rule; denial of petition for reconsideration.

SUMMARY: This document denies a Petition for Reconsideration and Joint Request for Approval of Option Agreement filed by STG Media, LLC and Pulaski Broadcasting, Inc. directed to the Report and Order in this proceeding which allotted Channel 278A to New Hope, Alabama. In doing so, it denied a proposed substitution of Channel 252C1 for Channel 252A at Pulaski, Tennessee, reallotment of Channel 252C1 to Ardmore, Alabama, and modification the license of Station WKSR to specify operation on Channel 252C1 at Ardmore. See 67 FR 59213, September 20, 2002. STG Media was the proponent for the Channel 278A allotment at New Hope, and Pulaski Broadcasting is the licensee of Station WKSR, Pulaski, Tennessee. In the Petition for Reconsideration, STG Media withdraws its interest in the Channel 278A allotment at New Hope, contingent upon approval of the Option Agreement by which STG Media would acquire Station WKSR and that Station WKSR be licensed as a Class C1 facility licensed to Ardmore. In denying the Petition for Reconsideration, the Commission determined that the Option Agreement was inconsistent with Section 1.420(j) of the Rules. With this action, the proceeding is terminated.

FOR FURTHER INFORMATION CONTACT: Robert Hayne, Mass Media Bureau (202) 418-2177.

SUPPLEMENTARY INFORMATION: This is a synopsis of the Commission's Report and Order in MM Docket No. 01-62, adopted April, 2 2003, and released April 4, 2003. The full text of this decision is available for inspection and copying during normal business hours in the FCC Reference Information Center at Portals ll, CY-A257, 445 12th Street, SW., Washington, DC. The complete text of this decision may also be purchased from the Commission's copy contractor, Qualex International, Portals II, 445 12th Street, SW., Room CY-B402, Washington, DC 20554, telephone (202) 863-2893, facsimile (202)863-2898, or via e-mail qualixint@aol.com.

Federal Communications Commission.
John A. Karousos,
Assistant Chief, Audio Division, Media Bureau.

[FR Doc. 03-9163 Filed 4-14-03; 8:45 am]

BILLING CODE 6712-01-P